OFFICE OF SCIENCE AND TECHNOLOGY POLICY

Notice of Request for Information; Downscaled Climate Projection Datasets Available To Be Considered for Use in the Sixth National Climate Assessment

AGENCY: Office of Science and Technology Policy (OSTP).

ACTION: Request for Information (RFI).

SUMMARY: With this notice, the U.S. Global Change Research Program (USGCRP) is issuing a Request for Information (RFI) on downscaled climate projection datasets for possible use in the 6th National Climate Assessment (NCA6). USGCRP will use the information submitted in response to this RFI to identify downscaled datasets that may be used by NCA6 authors at their discretion and to develop an updated data atlas for NCA6.

DATES: Comments and nominations must be submitted to the web address specified below and received on or before January 17th, 2025.

ADDRESSES: Submitted information will be accepted electronically via the USGCRP Public Contribution System: https://contribute.globalchange.gov. Instructions for submitting comments are available on the website.

FOR FURTHER INFORMATION CONTACT: Aaron Grade (202) 419-3488, agrade@usgcrp.gov, U.S. Global Change Research Program.

SUPPLEMENTARY INFORMATION: The Global Change Research Act (GCRA) of 1990 mandates that USGCRP deliver a National Climate Assessment to Congress and the President not less frequently than every four years that “(1) integrates, evaluates, and interprets the findings of the Program; (2) analyzes the effects of global change on the natural environment, agriculture, energy production and use, land and water resources, transportation, human health and welfare, human social systems, and biological diversity; and (3) analyzes current trends in global change, both human-induced and natural, and projects major trends for the subsequent 25 to 100 years.” One of the ways that projected changes across the United States are assessed is through the use of downscaled datasets, which are used by chapter author teams to support their understanding of the future impacts of climate change in each of the 50 states and in the U.S. territories so as to inform the assessment findings, narrative texts, and figures.

To date, five NCAs have been released. The most recent (NCA5) was released in November 2023, and can be found at https://nca2023.globalchange.gov. NCA6 is being developed in a way that maximizes transparency and inclusivity, offering opportunities for diverse public participation throughout the process. The production and review processes are designed to result in a report that is authoritative, timely, relevant, and policy-neutral; valued by authors and users; accessible to the widest possible audience; and fully compliant with the GCRA and federal Information Quality Act requirements.

A previous Federal Register Notice (https://www.federalregister.gov/documents/2024/05/02/2024-09575/national-oceanic-and-atmospheric-administration-noaa-availability-for-public-comment-on-nca6-draft) called for public input on themes, information for assessment, and volunteers to participate in the NCA6 development process. This RFI asks for input from the public on the availability of downscaled climate projection datasets that would advance NCA's efforts to inform decisions at more localized scales.

This voluntary request for information is intended to support USGCRP's selection, processing, aggregation, and use of downscaled data in NCA6. NCA6 is currently under development, and it is projected to be publicly released between late 2027 and early 2028. USGCRP intends to use information from this RFI to plan for the appropriate volume and methods of data processing, aggregation, and data display techniques that reflect the expected increase in breadth of downscaled datasets that could be contributed to NCA6.

Information submitted through this form will be reviewed by a federal interagency group tasked with making recommendations to report leadership for appropriate downscaled datasets for use in NCA6. The USGCRP anticipates this process will require an ongoing dialogue with the groups that provide the selected downscaled datasets and has designed it to be as flexible as possible to be inclusive, while also mindful of NCA6 requirements as a Highly Influential Scientific Assessment. Responses to this request are strongly encouraged and will serve as a starting point for this dialogue.

Information submissions will be accepted electronically via the USGCRP Public Contribution System: https://contribute.globalchange.gov. Instructions for submitting technical inputs are available on the website. Submitters may enter text or upload files in response to this notice. See https://www.globalchange.gov/nca6 for more information. While submissions to this RFI are not required, they are highly encouraged for consideration for inclusion in NCA6. If you wish to submit a downscaled data set to the NCA6 for consideration outside of this RFI, please contact Aaron Grade, agrade@usgcrp.gov no later than March 1, 2025.

Please note that submission in response to this RFI is entirely voluntary. More information, as well as information on asking questions beforehand, is available at https://www.globalchange.gov/nca6. Please also note that responses to this RFI may be made public as needed at USGCRP's discretion.

Via a questionnaire, submitters can provide the requested information on appropriate datasets that are either completed or in progress. Creation of these datasets may use statistical, dynamical, or other techniques, but are expected to be based on the latest generation of global climate models (GCMs) used in the Coupled Model Intercomparison Project—Phase 6 (CMIP6). NCA6 will prioritize the inclusion of datasets that fully encompass the entire conterminous United States and/or specialize in or incorporate U.S. regions outside of the conterminous United States (i.e., Alaska, Hawai'i, U.S.-Affiliated Pacific Islands, Puerto Rico, and/or the U.S. Virgin Islands) using a consistent and peer-reviewed technique. In addition to seeking details on dataset attributes, the USGCRP Public Contribution System (https://contribute.globalchange.gov) includes important requirements and considerations for the NCA timeline and project management.

Given limited resources, considerations of overall fit for NCA priorities, and scientific rigor, NCA6 may not include all information submitted to through this RFI. Report leadership will make the final decision regarding datasets used in NCA6, including potentially combining information from multiple products. If a submission is identified as relevant for potential use, USGCRP will engage with the submitter to develop and format datasets and metadata for use. This process is expected to become a recurring opportunity that will accommodate the evolving science and the rapid expansion of downscaling approaches and products for future NCAs and other federal products.

Dated: November 22, 2024.
Stacy Murphy,
Deputy Chief Operations Officer/Security Officer.

[FR Doc. 2024-27858 Filed 11-26-24; 8:45 am]

BILLING CODE 3270-F1-P